DEPARTMENT OF THE INTERIOR

Bureau of Land Management

[UTU81172]

Notice of Proposed Reinstatement of Terminated Oil and Gas Lease, Utah

September 2, 2008.

AGENCY: Bureau of Land Management, Interior.

ACTION: Notice.

SUMMARY: In accordance with Title IV of the Federal Oil and Gas Royalty Management Act (Pub. L. 97-451), Delta Petroleum Corporation timely filed a petition for reinstatement of oil and gas lease UTU81172 for lands in Grand County, Utah, and it was accompanied by all required rentals and royalties accruing from April 1, 2008, the date of termination.

FOR FURTHER INFORMATION CONTACT: Kent Hoffman, Deputy State Director, Division of Lands and Minerals at (801) 539-4080.

SUPPLEMENTARY INFORMATION: The Lessee has agreed to new lease terms for rentals and royalties at rates of $10 per acre and 16⅔ percent, respectively. The $500 administrative fee for the lease has been paid and the lessee has reimbursed the Bureau of Land Management for the cost of publishing this notice.

Having met all the requirements for reinstatement of the lease as set out in Section 31(d) and (e) of the Mineral Leasing Act of 1920 (30 U.S.C. 188), the Bureau of Land Management is proposing to reinstate the lease, effective April 1, 2008, subject to the original terms and conditions of the lease and the increased rental and royalty rates cited above.

Kent Hoffman,
Deputy State Director, Division of Lands and Minerals.

[FR Doc. E8-20696 Filed 9-5-08; 8:45 am]

BILLING CODE 4310-$$-P